DEPARTMENT OF ENERGY

National Nuclear Security Administration

Additional Public Hearing on the Draft Complex Transformation Supplemental Programmatic Environmental Impact Statement

AGENCY: National Nuclear Security Administration, Department of Energy.

ACTION: Notice of Additional Public Hearing.

SUMMARY: On January 11, 2008, NNSA published a Notice of Availability and Public Hearings for the Draft Complex Transformation Supplemental Programmatic Environmental Impact Statement (Draft Complex Transformation SPEIS, DOE/EIS-0236-S4; 73 FR 2023). That notice provided the schedule for 19 public hearings to receive comments on the Draft Complex Transformation SPEIS. Today, NNSA announces an additional public hearing to be held in Española, New Mexico.

Date and Location: NNSA will hold the additional public hearing on March 27, 2008 from 6 p.m. to 10 p.m. at: San Gabriel Mision y Convento, Plaza de Española, 1 Calle de las Españolas, Española, New Mexico (NW corner of the intersection of NM Rt 30 and Paseo de Onate in the City of Española).

FOR FURTHER INFORMATION CONTACT: Please direct questions regarding this additional public hearing, requests for additional information, or requests for copies of the Draft Complex Transformation SPEIS, to Mr. Theodore A. Wyka, Complex Transformation Supplemental PEIS Document Manager, Office of Transformation (NA-10.1), National Nuclear Security Administration, U.S. Department of Energy, 1000 Independence Avenue, SW., Washington, DC 20585. Questions also may be telephoned, toll free, to 1-800-832-0885 (ext. 63519) or e-mailed to complextransformation@nnsa.doe.gov.

SUPPLEMENTARY INFORMATION: On January 11, 2008, NNSA published a Notice of Availability and Public Hearings for the Draft Complex Transformation Supplemental Programmatic Environmental Impact Statement (Draft Complex Transformation SPEIS, DOE/EIS-0236-S4; 73 FR 2023). That notice provided the schedule for 19 public hearings to receive comments on the Draft Complex Transformation SPEIS. Today, NNSA announces an additional public hearing to be held in Española, New Mexico.

Individuals who would like to present comments orally at this hearing must register upon arrival at the hearing. NNSA will allot persons wishing to speak three to five minutes, depending upon the number of speakers. This will ensure that as many individuals as possible have the opportunity to speak. More time may be allotted by the hearing moderator as circumstances allow. NNSA officials will be available to discuss the Draft Complex Transformation SPEIS and answer questions during the first hour. NNSA will then hold a plenary session at the public hearing in which officials will explain the Draft Complex Transformation SPEIS and the analyses in it. Following the plenary session, the public will have an opportunity to provide oral and written comments. Oral comments from the hearing and written comments submitted during the comment period will be considered by NNSA in preparing the Final Complex Transformation SPEIS.

NNSA invites comments on the Draft Complex Transformation SPEIS during the 90-day public comment period, which ends on April 10, 2008. NNSA will consider comments received after this date to the extent practicable as it prepares the Final Complex Transformation SPEIS.

The Draft Complex Transformation SPEIS and additional information regarding complex transformation are available on the Internet at: http://www.ComplexTransformationSPEIS.com and http://www.nnsa.doe.gov.

Issued in Washington, DC, on February 29, 2008.
Robert L. Smolen,
Deputy Administrator for Defense Programs, National Nuclear Security Administration.

[FR Doc. E8-4544 Filed 3-6-08; 8:45 am]

BILLING CODE 6450-01-P